DEPARTMENT OF ENERGY

Proposed Agency Information Collection

AGENCY: Department of Energy (DOE).

ACTION: Notice and request for comments.

SUMMARY: The Department of Energy (DOE) invites public comment on a proposed collection of information that DOE is developing for submission to the Office of Management and Budget pursuant to the Paperwork Reduction Act of 1995 (44 U.S.C. 3501 et seq.). The proposed collection of information would implement a statutory requirement that Technology Transfer Ombudsmen report quarterly on complaints they receive.

DATES: Consideration will be given to comments submitted by May 24, 2002.

ADDRESSES: Written comments may be submitted to: Susan L. Frey, Director, Records Management Division (IM-11), Office of Records and Business Management, Office of the Chief Information Officer, U.S. Department of Energy, Germantown, Maryland 20874-1290, and Michael P. Hoffman, Office of General Counsel (GC-62), U.S. Department of Energy, 1000 Independence Ave., SW., Washington, DC 20585.

SUPPLEMENTARY INFORMATION: This package contains:

(1) OMB No.: New.

(2) Collection Title: Technology Partnerships Ombudsmen Reporting Requirements.

(3) Type of review: New collection.

(4) Purpose: This collection of information would implement a provision in the Technology Transfer Commercialization Act of 2000 (Pub. L. 106-404) that requires Technology Transfer Ombudsmen appointed by DOE national laboratories to report quarterly on the number and nature of complaints and disputes received and the Ombudsman's assessment of their resolution.

(5) Estimated Number of Respondents: 24 Technology Transfer Ombudsmen.

(6) Estimated Number of Burden Hours: 100 (Quarterly times 24 respondents).

Request for Comments: Pursuant to 44 U.S.C. 3506(c)(2)(A), DOE invites comment on: (1) Whether the proposed collection of information is necessary; (2) the accuracy of DOE's estimate of the burden of the proposed information collection; (3) ways to enhance the quality, utility, and clarity of the information to be collected; and (4) ways to minimize the burden of the collection of information on those who choose to respond. Additional information about DOE's proposed information collection may be obtained from the contact person named in this notice.

Statutory Authority: 44 U.S.C. 3506(c)(2)(A).

Issued in Washington, DC, on March 13, 2002.
Susan L. Frey,
Director, Records Management Division, Office of Records and Business Management, Office of the Chief Information Officer, U.S. Department of Energy.

[FR Doc. 02-7074 Filed 3-22-02; 8:45 am]

BILLING CODE 6450-01-P